DEPARTMENT OF ENERGY

Federal Energy Regulatory Commission

[Docket No. EL05-49-000]

Exelon Corporation, Complainant v. PPL Electric Utilities Corporation, PJM Interconnection, L.L.C., Respondents; Notice of Complaint

December 27, 2004.

Take notice that on December 23, 2004, Exelon Corporation filed a Complaint against PJM Interconnection, L.L.C. (PJM), and PPL Electric Utilities Corporation (PPL) pursuant to Rule 206 of the Commission's Rules of Practice and Procedure, 18 CFR 385.206 (2004) seeking compensation for improperly calculated and billed Transmission Congestion Charges to PECO in violation of the PJM Open Access Transmission Tariff and Operating Agreement.

Exelon states that copies of the complaint were served on the contacts for PJM and PPL as listed on the Commission's list of corporate officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: January 12, 2005.

Linda Mitry,
Deputy Secretary.

[FR Doc. E4-3922 Filed 1-3-05; 8:45 am]

BILLING CODE 6717-01-P